DEPARTMENT OF COMMERCE

International Trade Administration

[A-122-838]

Certain Softwood Lumber Products From Canada: Extension of the Time Limit for the Preliminary Results of Antidumping Duty Administrative Review

AGENCY: Import Administration, International Trade Administration, Department of Commerce.

DATES: Effective Date: January 3, 2005.

FOR FURTHER INFORMATION CONTACT: Constance Handley or James Kemp, at (202) 482-0631 or (202) 482-5346, respectively; AD/CVD Operations, Office 1, Import Administration, International Trade Administration, U.S. Department of Commerce, 14th Street & Constitution Avenue, NW., Washington, DC 20230.

Background

On June 30, 2004, the Department of Commerce (the Department) published a notice of initiation of administrative review of the antidumping duty order on certain softwood lumber products from Canada, covering the period May 1, 2003, through April 30, 2004. See Notice of Initiation of Antidumping Duty Administrative Review, 69 FR 39409 (June 30, 2004). The preliminary results are currently due no later than January 31, 2005. The review covers over four hundred producers/exporters of subject merchandise to the United States, of which eight are being individually examined.

Extension of Time Limit for Preliminary Results of Review

Section 751(a)(3)(A) of the Tariff Act of 1930, as amended (the Act), requires the Department of Commerce (the Department) to complete the preliminary results of an administrative review within 245 days after the last day of the anniversary month of an order/finding for which a review is requested. However, if it is not practicable to complete the review within these time periods, section 751(a)(3)(A) of the Act allows the Department to extend the time limit for the preliminary results to a maximum of 365 days after the last day of the anniversary month of an order/finding for which a review is requested. We determine that it is not practicable to complete the preliminary results of this review within the original time limit due to a number of complex issues which must be addressed prior to the issuance of those results. For example, the Department must analyze the complex corporate structures and affiliations of the eight respondents in this review, including affiliated mills and other entities both in Canada and the United States. In addition, as is our practice, the Department intends to conduct verification of a number of the respondents prior to the issuance of the preliminary results. We estimate that the sales and cost of production verifications will take approximately two months to complete.

Accordingly, the Department is extending the time limit for completion of the preliminary results of this administrative review until no later than June 1, 2005. We intend to issue the final results no later than 120 days after publication of the preliminary results notice.

Dated: December 27, 2004.
Gary S. Taverman,
Acting Deputy Assistant Secretary for Import Administration.

[FR Doc. E4-3910 Filed 12-30-04; 8:45 am]

BILLING CODE 3510-DS-P